DEPARTMENT OF AGRICULTURE

Federal Crop Insurance Corporation

7 CFR Part 400

General Administrative Regulations

CFR Correction

In Title 7 of the Code of Federal Regulations, Parts 400 to 699, revised as of January 1, 2015, on page 28, in § 400.169, in paragraph (c), the second to last sentence is reinstated to read: “The determinations of the Deputy Administrator will be final and binding on the company.”

[FR Doc. 2015-32219 Filed 12-22-15; 8:45 am]

BILLING CODE 1505-01-D